DEPARTMENT OF TRANSPORTATION

Office of the Secretary

Notice of Applications for Certificates of Public Convenience and Necessity and Foreign Air Carrier Permits Filed Under Subpart B (Formerly Subpart Q) During the Week Ending February 8, 2008

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-1999-5846.

Date Filed: February 5, 2008.

Due Date for Answers, Conforming Applications, or Motion to Modify Scope: February 26, 2008.

Description: Supplement No. 5 of United Air Lines, Inc. to its pending application for renewal and amendment of its experimental certificate of public convenience and necessity for Route 566 (U.S.-Mexico) to include authority to carry persons, property and mail in foreign air transportation between Chicago, IL and Cancun, Mexico.

Docket Number: DOT-OST-2008-0058.

Date Filed: February 8, 2008.

Due Date for Answers, Conforming Applications, or Motion to Modify Scope: February 29, 2008.

Description: Application of Royal Falcon Air Services requesting a foreign air carrier permit and an exemption authorizing Royal Falcon to provide the following service: (i) Charter foreign air transportation of persons, property and mail between any point or points in Jordan and any point or points in the United States; and between any point or points in the United States and any point or points in a third country or countries, provided that such service constitutes part of a continuous operation, with or without a change of aircraft, that includes air service to Jordan for the purpose of carrying local traffic between Jordan and the United States; and (ii) other charters between third countries and the United States.

Renee V. Wright,
Program Manager, Docket Operations, Federal Register Liaison.

[FR Doc. E8-12836 Filed 6-6-08; 8:45 am]

BILLING CODE 4910-9X-P